DEPARTMENT OF COMMERCE

International Trade Administration

[A-351-602, A-588-602, A-583-605, A-549-807, A-570-814]

Certain Carbon Steel Butt-Weld Pipe Fittings From Brazil, Japan, Taiwan, Thailand, and the People's Republic of China: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on certain carbon steel butt-weld pipe fittings (CSBW pipe fittings) from Brazil, Japan, Taiwan, Thailand, and the People's Republic of China (China) would be likely to lead to continuation or recurrence of dumping as indicated in the “Final Results of Sunset Reviews” section of this notice.

DATES: Applicable September 17, 2021.

FOR FURTHER INFORMATION CONTACT: Claudia Cott or Minoo Hatten, AD/CVD Operations, Office I, Enforcement and Compliance, International Trade Administration, U.S. Department of Commerce, 1401 Constitution Avenue NW, Washington, DC 20230; telephone: (202) 482-4270 or (202) 482-1690, respectively.

SUPPLEMENTARY INFORMATION:

Background

On July 1, 2021, Commerce published the notice of initiation of the sunset reviews of the AD orders on CSBW pipe fittings from Brazil, Japan, Taiwan, Thailand, and China ¹ pursuant to section 751(c) of the Tariff Act of 1930, as amended (the Act).² In accordance with 19 CFR 351.218(d)(1)(i) and (ii), Commerce received notices of intent to participate in these sunset reviews from the domestic interested parties within 15 days after the date of publication of the Initiation Notice.³ The domestic interested parties claimed interested party status under section 771(9)(C) of the Act.

¹ See Antidumping Duty Order; Certain Carbon Steel Butt-Weld Pipe Fittings from Brazil, 51 FR 45152 (December 17, 1986); see also Antidumping Duty Order: Certain Carbon Steel Butt-Weld Pipe Fittings from Japan, 52 FR 4167 (February 10, 1987); Antidumping Duty Order; Certain Carbon Steel Butt-Weld Pipe Fittings from Taiwan, 51 FR 45152 (December 17, 1986); Antidumping Duty Order; Certain Carbon Steel Butt-Weld Pipe Fittings from Thailand, 57 FR 29702 (July 6, 1992); and Antidumping Duty Order and Amendment to the Final Determination of Sales at Less Than Fair Value; Certain Carbon Steel Butt-Weld Pipe Fittings from the People's Republic of China, 57 FR 29702 (July 6, 1992) (collectively, AD Orders).

² See Initiation of Five-Year (Sunset) Reviews, 86 FR 35071 (July 1, 2021) (Initiation Notice).

³ The domestic interested parties are comprised of four domestic producers of carbon steel butt-weld pipe fittings: Tube Forgings of America, Inc., Mills Iron Works, Inc., Hackney Ladish, Inc. (a subsidiary of Precision Castparts Corp.), and Weldbend Corporation (collectively, domestic interested parties). See Domestic Interested Parties' Letters, “Certain Carbon Steel Butt-Weld Pipe Fittings from Brazil: Notice of Intent to Participate in the Fifth Five-Year (Sunset) Review of the Antidumping Order,” dated July 7, 2021; and “Carbon Steel Butt-Weld Pipe Fittings from Brazil: Notice of Intent to Participate by Weldbend Corporation,” dated July 9, 2021; “Certain Carbon Steel Butt-Weld Pipe Fittings from Japan: Notice of Intent to Participate in the Fifth Five-Year (Sunset) Review of the Antidumping Order,” dated July 7, 2021; and “Carbon Steel Butt-Weld Pipe Fittings from Japan: Notice of Intent to Participate by Weldbend Corporation,” dated July 9, 2021; “Certain Carbon Steel Butt-Weld Pipe Fittings from Taiwan: Notice of Intent to Participate in the Fifth Five-Year (Sunset) Review of the Antidumping Order,” dated July 7, 2021; and “Carbon Steel Butt-Weld Pipe Fittings from Taiwan: Notice of Intent to Participate by Weldbend Corporation,” dated July 9, 2021; “Certain Carbon Steel Butt-Weld Pipe Fittings from Thailand: Notice of Intent to Participate in the Fifth Five-Year (Sunset) Review of the Antidumping Order,” dated July 7, 2021; and “Carbon Steel Butt-Weld Pipe Fittings from Thailand: Notice of Intent to Participate by Weldbend Corporation,” dated July 9, 2021; “Certain Carbon Steel Butt-Weld Pipe Fittings from The People's Republic of China: Notice of Intent to Participate in the Fifth Five-Year (Sunset) Review of the Antidumping Order,” dated July 7, 2021; and “Carbon Steel Butt-Weld Pipe Fittings from China: Notice of Intent to Participate by Weldbend Corporation,” dated July 9, 2021.

Commerce received adequate substantive responses to the Initiation Notice from the domestic interested parties within the 30-day period specified in 19 CFR 351.218(d)(3)(i).⁴ Commerce received no substantive responses from any respondent interested parties. In accordance with section 751(c)(3)(B) of the Act and 19 CFR 351.218(e)(1)(ii)(C)(2), Commerce conducted expedited, i.e., 120-day, sunset reviews of the AD Orders.

⁴ See Domestic Interested Parties' Letters, “Carbon Steel Butt-Weld Pipe Fittings from Brazil: Substantive Response of Domestic Interested Party,” dated July 21, 2021; and “2021 Sunset Review: Carbon Steel Butt-Weld Pipe Fittings from Brazil: Substantive Response of Domestic Interested Parties,” dated July 27, 2021; see also “Carbon Steel Butt-Weld Pipe Fittings from Japan: Substantive Response of Domestic Interested Party,” dated July 21, 2021; and “2021 Sunset Review: Carbon Steel Butt-Weld Pipe Fittings from Japan: Substantive Response of Domestic Interested Parties,” dated July 27, 2021; “Carbon Steel Butt-Weld Pipe Fittings from Taiwan: Substantive Response of Domestic Interested Party,” dated July 21, 2021; and “2021 Sunset Review: Carbon Steel Butt-Weld Pipe Fittings from Taiwan: Substantive Response of Domestic Interested Parties,” dated July 27, 2021; “Carbon Steel Butt-Weld Pipe Fittings from Thailand: Substantive Response of Domestic Interested Party,” dated July 21, 2021; and “2021 Sunset Review: Carbon Steel Butt-Weld Pipe Fittings from Thailand: Substantive Response of Domestic Interested Parties,” dated July 27, 2021; and “Carbon Steel Butt-Weld Pipe Fittings from China: Substantive Response of Domestic Interested Party,” dated July 2, 2021; and “2021 Sunset Review: Carbon Steel Butt-Weld Pipe Fittings from China: Substantive Response of Domestic Interested Parties,” dated July 27, 2021.

Scope of the Orders

The merchandise subject to the AD Orders consists of certain carbon steel butt-weld type fittings, other than couplings, under 14 inches in diameter, whether finished or unfinished. These imports are currently classified under subheading 7307.93.30 of the Harmonized Tariff Schedule of the United States (HTSUS). The HTSUS subheading is provided for convenience and customs purposes. A full description of the scopes of the AD Orders is contained in the Issues and Decision Memorandum.⁵ The written descriptions are dispositive.

⁵ See Memorandum, “Issues and Decision Memorandum for the Expedited Sunset Reviews of the Antidumping Duty Orders on Certain Carbon Steel Butt-Weld Pipe Fittings from Brazil, Japan, Taiwan, Thailand, and the People's Republic of China,” dated concurrently with, and hereby adopted by, this notice (Issues and Decision Memorandum).

Analysis of Comments Received

All issues raised in these reviews are addressed in the Issues and Decision Memorandum, including the likelihood of continuation or recurrence of dumping in the event of revocation and the magnitude of dumping margins likely to prevail if the order was revoked. Parties can find a complete discussion of all issues raised in these reviews and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at http://enforcement.trade.gov/frn/index.html.

Final Results of Sunset Reviews

Pursuant to sections 751(c) and 752(c) of the Act, Commerce determines that revocation of the AD Orders would be likely to lead to continuation or recurrence of dumping and that the magnitude of the margins of dumping likely to prevail would be weighted-average margins up to the following percentages:

Country | Weighted- average margin (percent)
Brazil | 52.25
Japan | 65.81
Taiwan | 87.30
Thailand | 52.60
China | 182.90

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: September 10, 2021.
Christian Marsh,
Acting Assistant Secretary for Enforcement and Compliance.

Appendix

List of Topics Discussed in the Issues and Decision Memorandum

I. Summary

II. Background

III. Scope of the Orders

IV. History of the Orders

V. Legal Framework

VI. Discussion of the Issues

VII. Final Results of Expedited Sunset Reviews

VIII. Recommendation

[FR Doc. 2021-20102 Filed 9-16-21; 8:45 am]

BILLING CODE 3510-DS-P